DEPARTMENT OF COMMERCE

National Oceanic and Atmospheric Administration

[RTID 0648-XC371]

Endangered and Threatened Species; Draft Recovery Plan for the Oceanic Whitetip Shark (Carcharhinus Longimanus)

AGENCY: National Marine Fisheries Service (NMFS), National Oceanic and Atmospheric Administration (NOAA), Department of Commerce.

ACTION: Notice of availability of draft recovery plan; request for comments.

SUMMARY: We, the National Marine Fisheries Service (NMFS), announce the availability of a Draft Endangered Species Act (ESA) Recovery Plan for the threatened oceanic whitetip shark (Carcharhinus longimanus) for public review. We are soliciting review and comment from the public and all interested parties on the Draft Recovery Plan, and will consider all substantive comments received during the review period before submitting the Recovery Plan for final approval.

DATES: Comments on the Draft Recovery Plan must be received by March 27, 2023.

ADDRESSES: You may submit comments on the Draft Recovery Plan, identified by NOAA-NMFS-2022-0097 by the following method.

• Electronic Submissions: Submit all electronic comments via the Federal eRulemaking Portal. Go to https://www.regulations.gov and enter NOAA-NMFS-2022-0097 in the Search box. Click on the “Comment” icon, complete the required fields, and enter or attach your comments.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

Electronic copies of the Draft Recovery Plan and supporting documents are available online at: https://www.fisheries.noaa.gov/species/oceanic-whitetip-shark#conservation-management.

FOR FURTHER INFORMATION CONTACT: Kristen Koyama, (301) 427-8456, kristen.koyama@noaa.gov or Chelsey Young, (808) 725-5154, chelsey.young@noaa.gov.

SUPPLEMENTARY INFORMATION:

Background

The Endangered Species Act of 1973 (ESA), as amended (16 U.S.C. 1531 et seq.), requires that NMFS develop and implement recovery plans for the conservation and survival of threatened and endangered species under our jurisdiction, unless it is determined that such plans would not promote the conservation of the species. Section 4(f)(1) of the ESA requires that recovery plans incorporate, to the maximum extent practicable: (1) site-specific management actions necessary to achieve the plan's goals; (2) objective, measurable criteria which, when met, would result in a determination that the species is no longer threatened or endangered; and (3) estimates of the time required and costs to implement recovery actions.

We listed the oceanic whitetip shark (Carcharhinus longimanus) as a threatened species under the ESA on January 30, 2018 (83 FR 4153).

The oceanic whitetip shark is a globally distributed, pelagic species of shark that is highly migratory, has low-moderate productivity, and relatively low reproductive rates. While the current population size is unknown, the best available information indicates the oceanic whitetip shark has experienced significant declines in abundance throughout its range over at least the last several decades due to overutilization in commercial fisheries resulting in high levels of fishing mortality. It is difficult to assess the global population status of the oceanic whitetip shark because stock assessments to date have only been conducted for the Western and Central Pacific stock. Therefore, it is unknown whether global population abundance has continued to decline, has stabilized, or has recently increased. Regardless of recent trends, the oceanic whitetip shark's large population decline is a cause for concern due to ongoing susceptibility to threats acting on the species.

Development of the Draft Recovery Plan

In September 2018, we developed a recovery outline to systematically and cohesively guide recovery for the oceanic whitetip shark until we completed a recovery plan. The recovery outline is available on our website at: https://www.fisheries.noaa.gov/species/oceanic-whitetip-shark#conservation-management.

In April and November of 2019, we held two 3-day recovery planning workshops for the oceanic whitetip shark in Honolulu, Hawaii and Miami, Florida, respectively. The purpose of these workshops was to gather expert input and perspectives on the best ways for recovering the oceanic whitetip shark, including identifying potential recovery criteria and actions to address the threats to the species. We invited experts in specific topic areas, including the species' biology/ecology, threats to the species, fisheries management, and the recovery planning process itself. Identified experts included representatives of Federal agencies, scientific experts, individuals from conservation partners and non-governmental organizations, and representatives from the commercial fishing industry. The workshop summaries were published in late 2019 and are available from our website at: https://www.fisheries.noaa.gov/species/oceanic-whitetip-shark#conservation-management.

The recovery planning components for the oceanic whitetip shark are divided into three separate documents. The first document, the Recovery Status Review, provides detailed information on the oceanic whitetip shark's biology, ecology, status and threats, and conservation efforts to date, which has typically been included in the background section of a species' recovery plan. This separate document is designed to inform all post-listing activities, including recovery planning, and is a comprehensive update to the original 2017 status review (Young et al. 2017). The Recovery Status Review may be revised as new information becomes available. The second document, the Draft Recovery Plan, focuses on the statutory components of a recovery plan, as required under the ESA to be incorporated to the maximum extent practicable: (1) a description of site-specific management actions necessary for the conservation and survival of the species (recovery actions); (2) objective, measurable criteria that, when met, will allow the species to be removed from the endangered and threatened species list; and (3) estimates of the time and cost required to achieve the plan's goals. Site-specific recovery actions in the Draft Recovery Plan are described at a relatively high level and are strategic in nature. The third document, the Draft Recovery Implementation Strategy, is a flexible, operational document separate from the Draft Recovery Plan that provides specific, prioritized activities necessary to fully implement recovery actions in the Draft Recovery Plan, while affording us the ability to modify these activities efficiently to reflect changes in the information available as well as progress towards recovery. All three of the recovery planning documents, including the Recovery Status Review, the Draft Recovery Plan, and the Draft Recovery Implementation Strategy, are available on the NMFS oceanic whitetip shark profile website at: https://www.fisheries.noaa.gov/species/oceanic-whitetip-shark#conservation-management.

We have determined that this Draft Recovery Plan for the oceanic whitetip shark meets the statutory requirements for a recovery plan and are proposing to adopt it as the ESA recovery plan for this threatened species. Section 4(f)(4) of the ESA requires that public notice and an opportunity to comment be provided prior to final approval of a recovery plan. This notice solicits comments on this Draft Recovery Plan.

Contents of the Draft Recovery Plan

The Draft Recovery Plan presents NMFS' proposed recovery goal, objectives, and criteria, which, when met, would allow the oceanic whitetip shark to be delisted. The proposed demographic and threats-based recovery objectives and criteria are based on the listing factors found in the ESA section 4(a)(1). The proposed demographic and threats-based recovery objectives and criteria for the oceanic whitetip shark address threats from significant population declines, bycatch-related mortality in commercial fisheries, international trade of its fins, inadequate regulatory mechanisms, and identifies stressors that should be monitored for potential future impact, such as climate change. The Draft Recovery Plan also describes specific information on the following: current status of the oceanic whitetip shark, pressures (limiting factors) and threats that have contributed to the species' decline, recovery strategies to address the threats, and site-specific recovery actions with timelines. The Draft Recovery Plan also estimates the time and costs required to implement recovery actions.

The Draft Recovery Implementation Strategy provides specific, prioritized activities necessary to fully implement recovery actions in the Draft Recovery Plan. This stepped-down approach will afford us the ability to modify these activities efficiently to reflect changes in the information available as well as progress towards recovery.

How NMFS and Others Expect To Use the Plan

In addition to continuing to carry out actions already underway, such as satellite tag deployment and analysis, genetic sampling, and other research activities, we have begun implementation of other actions as described in the plan, such as gear changes in certain fisheries and developing additional regulatory measures to help protect oceanic whitetip sharks in U.S. waters. After public comment and the adoption of the Final Recovery Plan, our intention is to implement the actions and activities for which we have authority and funding; encourage other Federal, state, and local agencies to implement recovery actions and activities for which they have responsibility, authority, and funding; and work cooperatively with the public and local stakeholders on implementation of other actions and activities. We expect the Recovery Plan to guide us and other Federal agencies in evaluating Federal actions under ESA section 7, as well as in implementing other provisions of the ESA, such as considering permits under section 10, and other statutes.

Public Comments Solicited

We are soliciting written comments on the Draft Recovery Plan. All substantive comments received by the date specified above will be considered and incorporated, as appropriate, prior to our decision on whether to approve this Recovery Plan. While we invite comments on all aspects of the Draft Recovery Plan, we are particularly interested in comments on the proposed objectives, criteria, and actions, as well as comments on the estimated time and cost of recovery actions and activities.

Authority: 16 U.S.C. 1533(f).

Dated: January 19, 2023.
Angela Somma,
Chief, Endangered Species Conservation Division, Office of Protected Resources, National Marine Fisheries Service.

[FR Doc. 2023-01441 Filed 1-24-23; 8:45 am]

BILLING CODE 3510-22-P